DEPARTMENT OF THE INTERIOR

Bureau of Land Management

[NV-056-5853-ES; N-58877]

Notice of Realty Action: Lease/Conveyance for Recreation and Public Purposes (R&PP); Correction; Termination of Classification; Nevada

AGENCY: Bureau of Land Management (BLM), Interior.

ACTION: Notice.

SUMMARY: This notice corrects the legal land description for R&PP application N-58877 for lease/conveyance of a parcel of land and terminates the classification for other lands no longer needed for R&PP purposes.

DATES: Effective February 21, 2006.

ADDRESSES: Any comments should be sent to the BLM, Field Manager, Las Vegas Field Office, 4701 N. Torrey Pines Drive, Las Vegas, Nevada 89130.

FOR FURTHER INFORMATION CONTACT: Brenda Warner, BLM Realty Specialist, (702) 515-5084.

SUPPLEMENTARY INFORMATION: This action corrects errors in the legal description in the notice published as FR Doc. 98-3683 in 63 FR 7479-7480, February 13, 1998. The described land in this notice was segregated from all other forms of appropriation under the public land laws, including the general mining laws except for lease/conveyance under the Recreation and Public Purposes Act.

Page 7479, first column, line 34 from the bottom of the column, which reads “T. 19 S., R. 62 E.,” is hereby corrected to read “T. 19 S., R. 61 E.,”

Page 7479, first column, line 28 from the bottom of the column, which reads “Section 19, lot 15;” is hereby corrected to read “Section 19, lots 27 and 29.” This correction only pertains to the land identified in case file N-58877.

Excepting the legal land description being corrected, the classification for the remaining lands in the aforementioned notice is hereby terminated. Upon publication of this notice, these remaining lands will be available for disposition under the Southern Nevada Public Lands Management Act of 1998 (112 Stat. 2343) “The Act”, as amended by the Clark County Conservation of Public Land and Natural Resources Act of 2002 (116 Stat. 1994) and managed consistent with the Las Vegas RMP and final EIS dated October 5, 1998. The lands are withdrawn from location and entry, under the mining laws and from operation under the mineral leasing and geothermal leasing in accordance with the Act (112 Stat. 2343), as amended.

Dated: November 18, 2005.
Sharon DiPinto,
Assistant Field Manager, Division of Lands.

[FR Doc. E6-2381 Filed 2-17-06; 8:45 am]

BILLING CODE 4310-HC-P